NATIONAL CREDIT UNION ADMINISTRATION

Sunshine Act Meetings

TIME AND DATE: 10:00 a.m., Thursday, January 22, 2026.

PLACE: Board Room, 7th Floor, Room 7B, 1775 Duke Street (All visitors must use Diagonal Road Entrance), Alexandria, VA 22314-3428.

STATUS: Open.

MATTERS TO BE CONSIDERED:

1. Board Briefing, NCUA Rules and Regulations, Part 701, Dependent Care and Board Member Expense Reimbursement.

2. Board Briefing, Central Liquidity Facility's 2026-2027 Budget. (The NCUA Board, in its capacity as the Central Liquidity Facility Board).

CONTACT PERSON FOR MORE INFORMATION: Melane Conyers-Ausbrooks, Secretary of the Board, Telephone: 703-518-6304.

Melane Conyers-Ausbrooks,
Secretary of the Board.

[FR Doc. 2026-01035 Filed 1-16-26; 11:15 am]

BILLING CODE 7535-01-P